DEPARTMENT OF HEALTH AND HUMAN SERVICES

Administration for Children and Families

Administration for Native Americans; Funding Opportunity

Funding Opportunity Title: Projects that Improve Child Well-Being by Fostering Healthy Marriages within Native Communities.

Announcement Type: Initial.

Funding Opportunity Number: HHS-2005-ACF-ANA-NA-0021.

CFDA Number: 93.612.

Due Date for Applications: 07/8/2005.

Executive Summary: The Administration for Native Americans, within the Administration for Children and Families, announces the availability of fiscal year (FY) 2005 funds for projects that include approaches to improve child well-being by removing barriers associated with forming and sustaining healthy families and marriages in Native American communities. The Administration for Native Americans (ANA's) FY 2005 goals and program areas of interest are focused on strengthening children, families, and communities through financial assistance to community-based organizations including faith-based organizations, Tribes, and Village governments.

The Program Areas of Interest are projects that ANA considers supportive to Native American communities. Eligibility for funding is restricted to projects of the type listed in this program announcement and these Program Areas of Interest are ones which ANA sees as particularly beneficial to the development of healthy Native American communities. The primary objectives of these projects are pre-marital education, marriage education and relationship skills for youth, adults, and couples. Project components may include but are not limited to: Healthy relationship skills, communication skills, conflict resolution, foster parenting, marital counseling, abstinence education, and fatherhood accountability.

Financial assistance under this program is provided utilizing a competitive process in accordance with the Native American Programs Act of 1974, as amended. The purpose of this Act is to promote the goal of social self-sufficiency for American Indians, Native Hawaiians, Alaskan Natives, and other Native American Pacific Islanders, including American Samoa natives.

I. Funding Opportunity Description

This funding announcement seeks to fund projects that offer approaches to remove barriers to forming lasting families and healthy marriages in Native communities. Such projects shall consider activities that provide community supports, relationship skills education, and other activities necessary to promote the well-being of Native American children and families.

The Administration for Children and Families (ACF) Healthy Marriage Initiative (HMI) seeks to improve child well-being by helping those who choose marriage for themselves to develop the skills and knowledge necessary to form and sustain healthy marriages. Research demonstrates the strong correlation between family structure and a family's social and economic well-being. More information on the HMI is available at http://www.acf.hhs.gov/healthymarriage/index.html.

The Native American Healthy Marriage Initiative (NAHMI) is a component of the ACF Healthy Marriage Initiative and specifically promotes a culturally competent strategy for fostering healthy marriage, responsible fatherhood, child well-being, and strengthening families within the Native American Community. ANA believes a focused strategy is needed to support the Native American Community because:

• There is a perception the Healthy Marriage Initiative has not considered the unique experiences of the Native American population;

• There is a clear link between healthy marriage and child well-being;

• There are crisis-level statistics (e.g. rates of divorce and non-married child-bearing).

○ 34.4% of Native-American (NA) adults are married, compared to 51.3% of white adults, 41% of African Americans, and 60% of Hispanic adults (2002).

○ 25.6% of NA couples divorce per year, compared to 20.4% of white couples, 22.7% of African Americans, and 15.2% of Hispanic couples (2002).

○ 58.7% of NA births are to unmarried women, compared to 27.7% for white women, 68.4% for African-American women, and 42.5% of Hispanic women (2001).

○ 36.6% of NA children live with single parents, compared to 18.7% of white children, and 32.6% of Hispanic children (2000).

The NAHMI focused strategy includes three components:

1. Education and Communication.

2. Creation and Enhancement of Collaborations and Partnerships.

3. Identifying Resources.

NAHMI Goals and Objectives are to:

• Improve the well-being of Native American children.

• Improve the well-being of Native American children living in healthy, two-parent married households.

• Improve the number of healthy marriages in the Native American community.

• Improve the overall well-being of the Native American community.

• Develop and improve the capacity within the Native American community to provide healthy marriage activities.

Projects funded under this announcement will be expected to:

Provide for the project director and the evaluator to attend an early kickoff meeting for grantees funded under this priority area to be held within the first three months of the project (first year only) in Washington, DC.

ANA Administrative Policies: Applicants must comply with the following ANA Administrative Policies:

• An applicant must provide a 20% non-Federal match of the approved project costs. Applications originating from American Samoa, Guam, or the Commonwealth of the Northern Mariana Islands are covered under section 501(d) of Public Law 95-134, as amended (48 U.S.C. 1469a), under which HHS waives any requirement for matching funds under $200,000 (including in-kind contributions).

• An application from a Tribe, Alaska Native Village or Native American organization must be from the governing body.

• A non-profit organization submitting an application must submit proof of its non-profit status at the time of submission. The non-profit organization can accomplish this by providing one of the following verifiable documents: (i) A reference to the applicant organization's listing in the Internal Revenue Service's (IRS) most recent list of tax-exempt organizations described in the IRS Code; or (ii) a copy of the currently valid IRS tax exemption certificate; or (iii) a statement from a State taxing body, State Attorney General, or other appropriate State official certifying that the applicant organization has a non-profit status and none of the net earnings accrue to any private shareholders or individuals; or (iv) a certified copy of the organization's certificate of incorporation or similar document that clearly establishes non-profit status; or (v) any of the items in the subparagraphs immediately above for a State or national parent organization and a statement signed by the parent organization that the applicant organization is a local non-profit affiliate. Organizations incorporating in American Samoa are cautioned that the Samoan government relies exclusively upon IRS determination of non-profit status; therefore, articles of incorporation approved by the Samoan government do not establish non-profit status for the purpose of ANA eligibility.

• If the applicant, other than a tribe or an Alaska Native Village government, is proposing a project benefiting Native Americans, Alaska Natives, or both, it must provide assurance that its duly elected or appointed board of directors is representative of the community to be served. Applicants must provide information that at least a majority of the individuals serving on a non-profit applicant's board fall into one or more of the following categories: (1) A current or past member of the community to be served; (2) a prospective participant or beneficiary of the project to be funded; or (3) have a cultural relationship with the community be to served.

• Applicants must describe how the proposed project objectives and activities relate to a locally determined strategy.

• ANA will review proposed projects to ensure applicants have considered all resources available to the community to support the project.

• Proposed projects must present a strategy to overcome the challenges that hinder movement toward self-sufficiency in the community.

• All funded applications will be reviewed to ensure that the applicant has provided a positive statement to give credit to ANA on all materials developed using ANA funds.

• ANA will not accept applications from tribal components that are tribally authorized divisions unless the ANA application includes a tribal resolution.

• ANA will only accept one application per eligible entity. The first application received by ANA shall be the application considered for competition unless ANA is notified in writing which application should be considered for competitive review.

• ANA funds short-term projects not programs. Projects must have definitive goals and objectives that will be achieved by the end of the project period. All projects funded by ANA must be complete, self-sustaining, or supported by other than ANA funding at the end of the project period.

• Before funding the second year of a multi-year grant, ANA will require verification and support documentation from the grantee that objectives and outcomes proposed in the preceding year were accomplished, and the non-Federal share requirement has been met.

• ANA reviews the quarterly and annual reports of grantees to determine if the grantee is meeting its goals, objectives and activities identified in the Objective Work Plan (OWP).

• Applications from National and Regional organizations must clearly demonstrate a need for the project, explain how the project originated, and discuss the community-based delivery strategy of the project, identify and describe the intended beneficiaries, describe and relate the actual project benefits to the community and organization, and describe a community-based delivery system. National and Regional organizations must describe their membership, define how the organization operates, and demonstrate native community and/or Tribal government support for the project. The type of community to be served will determine the type of documentation necessary to support the project.

Definitions

Program specific terms and concepts are defined and must be used as a guide in writing and submitting the proposed project. The funding for allowable projects in this program announcement is based on the following definitions:

Authorized Representative: The person or person(s) authorized by Tribal or Organizational resolution to execute documents and other actions required by outside agencies.

Budget Period: The interval of time into which the project period is divided for budgetary or funding purposes, and for which a grant is made. A budget period usually lasts one year in a multi-year project period.

Community: A group of people residing in the same geographic area that can apply their own cultural and socio-economic values in implementing ANA's program objectives and goals. In discussing the applicant's community, the following information must be provided: (1) A description of the population segment within the community to be served or impacted; (2) the size of the community; (3) geographic description or location, including the boundaries of the community; (4) demographic data on the target population; and (5) the relationship of the community to any larger group or tribe.

Community Involvement: How the community participated in the development of the proposed project, how the community will be involved during the project implementation and after the project is completed. Evidence of community involvement can include, but is not limited to, certified petitions, public meeting minutes, surveys, needs assessments, newsletters, special meetings, public Council meetings, public committee meetings, public hearings, and annual meetings with representatives from the community.

Completed Project: A project funded by ANA is finished, self-sustaining, or funded by other than ANA funds, and the results and outcomes are achieved by the end of the project period.

Consortium-Tribal/Village: A group of Tribes or Villages that join together either for long-term purposes or for the purpose of an ANA project.

Construction: The initial building of a facility.

Core Administration: Salaries and other expenses for those functions that support the applicant's organization as a whole or for purposes unrelated to the actual management or implementation of the ANA project.

Economic Development: Involves the promotion of the physical, commercial, technological, industrial, and/or agricultural capacities necessary for a sustainable local community. Economic development includes activities and actions that develop sustainable, stable, and diversified private sector local economies. For example, initiatives that support employment options, business opportunities, development and formation of a community's economic infrastructure, laws and policies that result in the creation of businesses and employment options, and opportunities that provide for the foundation of healthy communities and strong families.

Equipment: Tangible, non-expendable personal property, including exempt property, charged directly to the award having a useful life of more than one year and an acquisition cost of $5,000 or more per unit. However, consistent with recipient policy, lower limits may be established.

Governance: Involves assistance to Tribal and Alaska Native village governments to increase their ability to exercise local control and decision-making over their resources.

Impact Indicators: Measurement descriptions used to identify the outcomes or results of the project. Outcomes or results must be quantifiable, measurable, verifiable and related to the outcome of the project to determine that the project has achieved its desired objective and can be independently verified through ANA monitoring and evaluation.

In-kind Contributions: In-kind contributions are property or services that benefit a federally assisted project which are contributed by the grantee, non-Federal third parties without charge to the grantee, or a cost-type contractor under the grant agreement. Any proposed in-kind match must meet the applicable requirements found in 45 CFR parts 74 and Part 92.

Letter of Commitment: A third party statement to document the intent to provide specific in-kind contributions or cash to support the applicant. The Letter of Commitment must state the dollar amount (if applicable), the length of time the commitment will be honored, and the conditions under which the organization will support the proposed ANA project. If a dollar amount is included, the amount must be based on market and historical rates charged and paid. The resources to be committed may be human, natural, physical, or financial, and may include other Federal and non-Federal resources. Statements in an application about resources which have been committed to or support a proposed ANA project, but not supported with documentation, will be disregarded.

Leveraged Resources: The total dollar value of all non-ANA resources that are committed to a proposed ANA project and are supported by documentation that exceed the 20% non-Federal match required for an ANA grant. Such resources may include any natural, financial, and physical resources available within the tribe, organization, or community to assist in the successful completion of the project. An example would be a letter from an organization that agrees to provide a supportive action, product, and service, human or financial contribution that will add to the potential success of the project.

Minor Renovation or Alteration: Work required to change the interior arrangements or other physical characteristics of an existing facility, or install equipment so that it may be more effectively used for the project. Minor alteration and renovation may include work referred to as improvements, conversion, rehabilitation, remodeling, or modernization, but is distinguished from construction and major renovations. A minor alteration and or renovation must be incidental and essential for the project (“incidental” meaning the total alteration and renovation budget must not exceed the lesser of $150,000 or 25 percent of total direct costs approved for the entire project period.).

Multi-purpose Organization: A community-based corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as day care, education, and training.

Multi-year Project: Encompasses a single theme and requires more than 12 or 17 months and up to 24 or 36 months to complete. A multi-year project affords the applicant an opportunity to develop and address more complex and in-depth strategies that cannot be completed in one year. A multi-year project is a series of related objectives with activities presented in chronological order over a two or three-year period.

Objective(s): Specific outcomes or results to be achieved within the proposed project period that are specified in the Objective Work Plan. Completion of objectives must result in specific, measurable outcomes that would benefit the community and directly contribute to the achievement of the stated community goals. Applicants should relate their proposed project objectives to outcomes that support the community's long-range goals. Objectives are an important component of Criterion III and are the foundation for the Objective Work Plans.

Objective Work Plan (OWP): The project plan the applicant will use in meeting the results and benefits expected for the project. The results and benefits are directly related to the Impact Indicators. The OWP provides detailed descriptions of how, when, where, by whom and why activities are proposed for the project and is complemented and condensed in the Objective Work Plan. ANA will require separate OWPs for each year of the project (Form OMB# 0980-0204 exp 10/31/2006).

Partnerships: Agreements between two or more parties that will support the development and implementation of the proposed project. Partnerships include other community-based organizations or associations including faith-based organizations, Tribes, Federal and State agencies, and private or non-profit organizations.

Real Property: Land, including land improvements, structures, and appurtenances thereto, excluding movable machinery and equipment.

Resolution: Applicants are required to include a current signed and dated Resolution (a formal decision voted on by the official governing body) in support of the project for the entire project period. The Resolution must indicate who is authorized to sign documents and negotiate on behalf of the Tribe or organization. The Resolution must indicate that the community was involved in the project planning process, and indicate the specific dollar amount of any eligible matching funds (if applicable).

Sustainable Project: A sustainable project is an ongoing program or service that can be maintained without additional ANA funds.

Self-Sufficiency: The ability to generate resources to meet a community's needs in a sustainable manner. A community's progress toward self-sufficiency is based on its efforts to plan, organize, and direct resources in a comprehensive manner that is consistent with its established long-range goals. For a community to be self-sufficient, it must have local access to, control of, and coordination of services and programs that safeguard the health, well-being, and culture of the people that reside and work in the community.

Social Development: Investment in human and social capital for advancing the well-being of members of the Native American community served. Social development is the action taken to support the health, education, culture, and employment options that expand an individual's capabilities and opportunities, and that promote social inclusion and combat social ills.

Total Approved Project Costs: The sum of the Federal request plus the non-Federal share.

Priority Area 1

Projects That Improve Child Well-Being by Fostering Healthy Marriage Within Native Communities

Description:

Program Areas of Interest are:

• Projects that implement and test new, unique or distinctive approaches for delivering services to a specific population.

• Projects that test whether a program or service that has proven successful in one location or setting can work in a different context.

• Projects that test a theory, idea, or method that reflects a new and different way of thinking about service delivery.

ACF strongly encourages applicants to consult their local domestic violence coalition to learn more about the information and services they provide to the community.

II. Award Information

Funding Instrument Type: Grant.

Anticipated Total Priority Area Funding: $1,000,000.

Anticipated Number of Awards: 5 to 8.

Ceiling on Amount of Individual Awards Per Budget Period: $150,000.

Floor on Amount of Individual Awards Per Budget Period: $50,000.

Average Projected Award Amount Per Budget Period: $125,000.

Length of Project Periods: 36 month project with three 12 month budget periods.

Applications that exceed the ceiling amount will be considered non-responsive and will not be considered for competition.

III. Eligibility Information

1. Eligible Applicants

Native American tribal governments (Federally recognized); Native American tribal organizations (other than Federally recognized tribal governments);

Non-profits having a 501(c)(3) status with the IRS, other than institutions of higher education;

Non-profits that do not have a 501(c)(3) status with the IRS, other than institutions of higher education.

Additional Information on Eligibility: An applicant must be one of the following to be eligible under this announcement:

• Federally recognized Indian Tribes;

• Consortia of Indian Tribes;

• Incorporated non-Federally recognized Tribes:

• Incorporated non-profit multi-purpose community-based Indian organizations;

• Urban Indian Centers;

• National or regional incorporated non-profit Native American organizations with Native American community-specific objectives;

• Alaska Native villages, as defined in the Alaska Native Claims Settlement Act (ANCSA) and/or non-profit village consortia;

• Incorporated non-profit Alaska Native multi-purpose community-based organizations;

• Non-profit Alaska Native Regional Corporations/Associations in Alaska with village specific projects;

• Non-profit Native organizations in Alaska with village specific projects;

• Public and non-profit private agencies serving Native Hawaiians;

• Public and non-profit private agencies serving native peoples from Guam, American Samoa, or the Commonwealth of the Northern Mariana Islands (the populations served may be located on these islands or in the United States);

• Tribally-controlled Community Colleges, Tribally-controlled Post-Secondary Vocational Institutions, and colleges and universities located in Hawaii, Guam, American Samoa or the Commonwealth of the Northern Mariana Islands which serve Native Pacific Islanders; and

• Non-profit Alaska Native community entities or Tribal governing bodies (Indian Reorganization Act or Traditional Councils) as recognized by the Bureau of Indian Affairs.

2. Cost Sharing/Matching

Yes

Grantees are required to meet a non-Federal share of the project costs, in accordance with 42 U.S.C. 2991(b)(3)(e)(1). Grantees must provide at least 20% of the total approved cost of the project. The total approved cost of the project is the sum of the ACF share and the non-Federal share. The non-Federal share may be met by cash or in-kind contributions, although applicants are encouraged to meet their match requirements through cash contributions. For example, in order to meet the match requirements, a project with a total approved cost of $125,000, requesting $100,000 in ACF funds, must provide a non-Federal share of at least $25,000 (20% of total approved project cost of $125,000.) Grantees will be held accountable for commitments of non-federal resources even if over the amount of the required match. Failure to provide the amount will result in disallowance of Federal funds. Lack of supporting documentation at the time of application will not impact the responsiveness of the application for competitive review.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

Applications that do not include a current signed and dated Resolution (a formal decision voted on by the official governing body) in support of the project for the entire project period will be considered non-responsive and will not be considered for competition. [See Section I. Funding Opportunity Description—Definitions, for information on resolutions]

Applications, if the applicant is other than a Tribe or Alaska Native Village government, that do not include proof that a majority of the governing board of directors is representative of the community to be served, will be considered non-responsive and will not be considered for competition.

Please see Section III.2 Other, concerning requirements for the cost matching which do not impact the responsiveness of an application for competitive review.

IV. Application and Submission Information

1. Address To Request Application Package

To learn more about ANA and receive information about Training and Technical Assistance (T/TA) contact:

Region I: AL, AR, CT, DC, DE, FL, GA, IA, IL, IN, KS, KY, LA, MA, MD, ME, MI, MN, MO, MS, NC, ND, NE, NH, NJ, NY, OH, OK, PA, RI, SC, SD, TN, TX, VA, VT, WI, WV. Native American Management Services, Inc., 6858 Old Dominion Drive, Suite 302, McLean, VA 22101, Phone: 888-221-9686, Fax: 703-821-3680, Rondelle Clay, Project Manager; Email: rclay@namsinc.org; URL: http://www.anaeastern.org.

Region II: AZ, CA, CO, ID, MT, NM, NV, OR, UT, WA, WY. ACKCO, Inc., 1326 N. Central, Suite 208, Phoenix, Arizona 85004, Toll Free: 800-525-2859, Direct: 602-253-9211, Fax: 602-253-9135, Theron Wauneka, Project Manager; Email: theron.wauneka@ackco.com; URL: http://www.anawestern.org.

Region III: Alaska. Native American Management Services, Inc., 11723 Old Glenn Highway, Suite 201, Eagle River, Alaska 99577, Toll Free: 877-770-6230, Direct: 907-694-5711, Fax: 907-694-5775, P.J. Bell, Project Manager; Email: region3@gci.net; URL: http://www.anaalaska.org.

Region IV: American Samoa (AS), Guam, Hawaii (HI), Commonwealth of Northern Mariana Islands (CNMI). Council for Native Hawaiian Advancement, 33 South King Street, Suite 513, Honolulu, Hawaii 96813, Toll-Free: 800-709-2642, Local: 808-521-5011, Fax: 808-521-4111, Lilia Kapuniai, Vice President, Community Development; E-Mail: info@anapacific.org; URL: http://www.anapacific.org.

2. Content and Form of Application Submission

Please refer to Section I. Funding Opportunity Description, to review general ANA Administrative Policies and Section IV. 5. Funding Restrictions.

Application Submission: Each application should include one signed original and two additional copies of the complete application. The original must include all required forms, certifications, assurances, and appendices, contain an original signature by an authorized representative, and be submitted unbound. The two additional copies of the complete application must include all required forms, certifications, assurances, and appendices and must also be submitted unbound.

Applicants have the option of omitting from the application copies (not the original) specific salary rates or amounts for individuals specified in the application budget. A complete application for assistance under this Program Announcement consists of three parts. Part One includes the SF 424, other required government forms, and other required documentation. Part Two of the application is the project narrative. This section of the application may not exceed 40 pages. The line-item budgets, budget justifications and the OWP form (OMB Control Number 0980-0204, exp 10/31/2006) will be exempt from the page limitation. Part Three of the application is the Appendix. This section of the application may not exceed 20 pages (the exception to this 20-page limit applies only to projects that require, if relevant to the project, a Business Plan or any Third-Party Agreements).

Electronic Submission: While ACF does have the capability to receive program announcement applications electronically through Grants.gov, electronic submission of applications will not be available for this particular announcement. There are required application form(s) specific to ANA that have not yet received clearance from Grants.gov. While electronic submission of applications may be available in the next fiscal year for this program, no electronic submission of applications will be accepted for this announcement this year as they would be missing those required ANA forms and be considered incomplete.

Organization and Preparation of Application: Due to the intensity and pace of the application review and evaluation process, ANA strongly recommends applicants organize, label, and insert required information in accordance with Part One, Part Two and Part Three as presented in the table below. ANA strongly suggests applicants label the application for ease of reviewing. The application must begin with the information requested in Part One of the chart in the prescribed order. Utilizing this format will insure all information submitted to support an applicant's request for funding is thoroughly reviewed. Submitting information in this format will assist the panel reviewer in locating and evaluating the information. Deviation from this suggested format will reduce the applicant's ability to receive maximum points, which are directly related to ANA's funding review decisions.

ANA Application Format: ANA requires all applications to be labeled in compliance with the format provided in the program announcement. This format applies to all applicants submitting applications for funding. All pages submitted (including Government Forms, certifications and assurances) must be numbered consecutively (for example, the first page of the application is the SF 424 and must be labeled as page one). The paper size shall be 8.5 x 11 inches, line spacing shall be a space and a half (1.5 line spacing), printed only on one side, and have a half-inch margin on all sides of the paper. (Note: the 1.5 line spacing does not apply to the Project Abstract Form, Appendices, the Table of Contents, the Objective Work Plans, and the Budget.) The font size shall be 12-point and the font type shall be Times New Roman.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1, for instructions on preparing the full project description.

3. Submission Dates and Times

Due Date for Applications: 7/8/2005.

Explanation of Due Dates: The closing date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. However, applicants will receive an electronic acknowledgement for applications that are submitted via http://www.Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

Part One.—Federal Forms and Other Required Documents
What to submit | Required content | Required form or format | When to submit
Table of Contents | See Section IV | Applicant must include a table of contents that accurately identifies the page number and where the information can be located. Table of Contents does not count against application page limit | By application due date.
SF424 | See Section IV | http://www.acf.hhs.gov/programs/ofs/forms.htm | By application due date.
SF424A | See Section IV | http://www.acf.hhs.gov/programs/ofs/forms.htm | By application due date.
Assurances and Certifications | See Section IV | http://www.acf.hhs.gov/programs/ofs/forms.htm | By award date.
Indirect Cost Agreement | See Section V | Organizations and Tribes must submit a current indirect cost agreement (if claiming indirect costs) that aligns with the approved ANA project period. The Indirect Cost Agreement must identify the individual components and percentages that make up the indirect cost rate | By award date.
Proof of Non-Profit Status | See Section III | As described in this announcement under Section III “Additional Information on Eligibility” | By award date.
Resolution | See Section I | Information for submission can be found in the Program Announcement Section I, “Definitions” | By application due date.
Board of Directors Documentation | See Section I | As described in this announcement under Section I “ANA Administrative Policies” | By application due date.
Audit Letter | See Section I | A Certified Public Accountant's “Independent Auditors' Report on Financial Statement.” This is usually only a two to three page document. (This requirement applies only to applicants with annual expenditures of $500,000 or more of Federal funds). Applicant must also include that portion of the audit document that identifies all other Federal sources of funding entitled “Supplemental Schedule of Expenditures of Federal Awards” | By application due date.
Non-Federal Share of Waiver Request, per CFR 1336.50(b) | See Section I | A request for a waiver of the non-Federal share requirement may be submitted in accordance with 45 CFR 1336.50(b)(3) of the Native American Program regulations. (if applicable) | By award date.
Certification regarding Maintenance of Effort | See Section IV.2 | May be found at http://www.acf.hhs.gov/programs/ofs/forms.htm | By award date.
Certification regarding Lobbying Disclosure of Lobbying Activities—SF LLL | See Section IV.2. | May be found at http://www.acf.hhs.gov/programs/ofs/forms.htm | By award date.
Environmental Tobacco Smoke Certification | See Section IV.2. | May be found at http://www.acf.hhs.gov/programs/ofs/forms.htm | By award date.

Part Two.—ANA Application Review Criteria
What to submit | Required content | Required form or format; ANA application review criteria; this section may not exceed 40 pages | When to submit
Criteria One (10 pts) | See Section V | Introduction and Project Summary/Application Format: Include the ANA Project Abstract form (OMB # 0980-0204 exp. 10/31/2006) | By application due date.
Criteria Two (20 pts) | See Section V | Need for Assistance | By application due date.
Criteria Three (25 pts) | See Section V | Project Approach Include an Objective Work Plan (OWP) form (OMB # 0980-0204, exp. 10/31/2006) for each 12-month budget period. A 17-month project period requires only one OWP Note: The OWP is not included in the page count for this Part. | By application due date.
Criteria Four (15 pts) | See Section V | Organizational Capacity | By application due date.
Criteria Five (15 pts) | See Section V | Project Impact/Evaluation | By application due date.
Criteria Six (15 pts) | See Section V | Budget and Budget Justification/Cost Effectiveness Note: The Budget and Budget Justification is not included in the page count for this Part. | By application due date.

Part Three.—Appendix
What to submit | Required content | Required form or format; this section may not exceed 20 pages | When to submit
Appendix | See Section I | Part Three includes only supplemental information or required support documentation that addresses the applicant's capacity to carry out and fulfill the proposed project. These items include: Letters of agreement with cooperating entities, in-kind commitment and support letters, business plans, and a summary of the Third Party Agreements. Do not include books, videotapes, studies or published reports and articles, as they will not be made available to the reviewers or returned to the applicant | By application due date.

Additional Forms

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | Found in http://www.acf.hhs.gov/programs/ofs/forms.htm | By application due date.

4. Intergovernmental Review

This program is not subject to Executive Order 12372, “Intergovernmental Review of Federal Programs,” or 45 CFR Part 100, “Intergovernmental Review of Department of Health and Human Services Programs and Activities”.

5. Funding Restrictions

ANA does not fund:

• Activities in support of any foreseeable litigation against the United States Government that are unallowable under OMB Circulars A-87 and A-122.

• ANA does not fund duplicative projects or allow any one community or region to receive a disproportionate share of the funds available for award. When making decisions on awards of grants the Agency will consider whether the project is essentially identical or similar, in whole or significant part, to projects in the same community previously funded or being funded under the same competition. The Agency will also consider whether the grantee is already receiving funding for a SEDS, Language, or Environmental project from ANA. The Agency will also take into account in making funding decisions whether a proposed project would require funding on an indefinite or recurring basis. This determination will be made after it is determined whether the application meets the requirements for eligibility as set forth in 45 CFR 1336, Subpart C, but before funding decisions are complete [See Section I. Funding Opportunity Description—ANA Administrative Policies regarding short-term projects].

• Projects in which a grantee would provide training and/or technical assistance (T/TA) to other tribes or Native American organizations that are otherwise eligible to apply for ANA funding. However, ANA will fund T/TA requested by a grantee for its own use or for its members' use (as in the case of a consortium), when the T/TA is necessary to carry out project objectives.

• The purchase of real property or construction because these activities are not authorized by the Native American Programs Act of 1974, as amended.

• Core administration (See Definitions) functions, or other activities, that essentially support only the applicant's ongoing administrative functions and are not related to the proposed project.

• Costs associated with fundraising, including financial campaigns, endowment drives, solicitation of gifts and bequests, and similar expenses incurred solely to raise capital or obtain contributions are unallowable under an ANA grant award.

• Projects originated and designed by consultants who provide a major role for themselves and are not members of the applicant organization, Tribe, or village.

• Major renovations or alterations are prohibited activities because these activities are not authorized under the Native American Programs Act of 1974 as amended. Minor alterations, as defined in this announcement, may be allowable.

• Projects that request funds for feasibility studies, business plans, marketing plans or written materials, such as manuals, that are not an essential part of the applicant's long range development plan.

• The support of ongoing social service delivery programs or the expansion, or continuation, of existing social service delivery programs.

• ANA will not fund activities by a consortium of tribes that duplicate activities for which a consortium member tribe also receives funding from ANA.

6. Other Submission Requirements

Submission by Mail: An applicant must provide an original application with all attachments, signed by an authorized representative and two copies. Please see Section IV.3 for an explanation of due dates. Applications should be mailed to: Tim Chappelle, U.S. Department of Health and Human Services, Administration for Children and Families, Office of Grants Management, Division of Discretionary Grants, 370 L'Enfant Promenade SW., Washington, DC 20447.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Tim Chappelle, U.S. Department of Health and Human Services, Administration for Children and Families, Office of Grants Management—Discretionary Grants, ACF Mail Room, Second Floor Loading Dock, Aerospace Center, 901 D Street SW., Washington, DC 20447.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project, along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—25 Points

Project Approach: The applicant's narrative must be clear and concise. The narrative must include a detailed project description with goals and objectives. It must discuss the project strategy and implementation plan over the project period. The applicant must use the Objective Work Plan (OWP) form to identify the project objectives, time frames, proposed activities, results and benefits expected and criteria for evaluating results and benefits, as well as the individuals responsible for completing the objectives and performing the activities. Within the results and benefits section of the OWP, the applicant must provide quantitative quarterly projections of the accomplishments to be achieved for each function or activity. The extent to which the applicant can effectively demonstrate that they have adequate knowledge of the information and services provided by domestic violence coalitions within their community.

The applicant must also include the names and activities of any organizations, consultants, or other key individuals who will contribute to the project, utilizing the column for Non-Salaried Personnel to list the hours incurred for these activities. The applicant must discuss “Leveraged Resources” (see Definitions) used to strengthen and broaden the impact of the proposed project. The applicant must discuss how commitments and contributions from other entities will enhance the project. Applicants must discuss the relationship of non-ANA funded activities to those objectives and activities that will be funded with ANA grant funds.

Objectives and Need for Assistance—20 Points

Need for Assistance: Applicant must show a clear relationship between the proposed project, the social and economic development strategy, and the community's long-range goals. The need for assistance must clearly identify the physical, economic, social, financial, governmental, and institutional challenges and problem(s) requiring a solution that supports the funding request. Describe the community (see Definitions) to be affected by the project and the community involvement in the project. The applicant must describe the community's long-range goals, the community planning process, and how the project supports the community goals. The applicant must describe how the proposed goals, objectives, and activities reflect either the economic and social development or governance needs of the local community. Discuss the geographic location of the project and where the project and grant will be administered. Applicant must describe how the proposed project objectives and activities relate to a locally determined strategy.

The applicant must provide documentation of the community's support for the proposed project. Applications from National and Regional organizations must clearly demonstrate a need for the project, explain how the project originated, identify the intended beneficiaries, describe and relate the actual project benefits to the community and organization, and describe a community-based project delivery strategy. National and Regional organizations must also identify their membership and specifically discuss how the organization operates and impacts Native American people and communities. Proposed project objectives support the identified need and must be measurable.

Budget and Budget Justification—15 Points

Budget and Budget Justification/Cost Effectiveness: An applicant must submit an itemized budget detailing the applicant's Federal and non-Federal share and cite source(s) of funding. The applicant must provide a detailed line-item Federal and Non-Federal share budget by year for each year of project funds requested. A budget justification narrative to support the line-item budget request must be included for each year of project funds requested. The budget must include a line-item justification for each Object Class Category listed under Section B “Budget Categories” of the SF 424 A “Budget Information-Non Construction Programs” form. The line-item budget and budget justification narrative must include the necessary details to facilitate the determination of allowable costs and the relevance of these costs to the proposed project.

The non-Federal budget share must identify the source and be supported by letters of commitment (see Definitions). Letters of commitment are binding when they specifically state the nature, the amount, and conditions under which another agency or organization or individual will support a project. These resources may be human, natural, or financial, and may include other Federal and non-Federal resources. Statements that additional funding will be sought from other specific sources are not considered a binding commitment of outside resources. Letters of Support merely express another organization's endorsement of a proposed project. Support letters are not binding commitment letters, as they do not factually establish the authenticity of other resources and do not offer or bind specific resources to the project.

If an applicant plans to charge or otherwise seek credit for indirect costs in its ANA application, a copy of its current Indirect Cost Rate Agreement must be included in the application, with all costs broken down by category so ANA reviewers can be certain that no budgeted line items are included in the indirect cost pool. Applicants that do not submit a current Indirect Cost Rate Agreement may not be able to claim the allowable cost, may have the grant award amount reduced, or may experience a delay in grant award.

Applicants are strongly encouraged to include sufficient funds for principal representatives, such as the applicant's chief financial officer or project director to travel to one ANA post-award grant training and technical assistance workshop. This expenditure is allowable for new grant recipients and optional for grantees that have had previous ANA grant awards. Applicants may also include costs for two staff persons to attend the ACF National Native American Conference, Marriage Best Practices Conference, and an ACF Consultation Conference.

Cost Effectiveness: This section of the criterion reflects ANA's concern with ensuring that the expenditure of its limited resources yields the greatest benefit possible in achieving economic and social self-sufficiency for Native American communities. Applicants demonstrate this by: summarizing partnerships and the efficient use of leveraged resources; explaining the impact on the identified community through measurable project outcomes, and presenting a project that is completed, self-sustaining or supported by other than ANA funds by the end of the project period.

Results or Benefits Expected—15 Points Project Impact/Evaluation:

In this criterion, the applicant will discuss the “Impact Indicators” (see Definitions) and the benefits expected as a result of this project. Impact indicators identify qualitative and quantitative data directly associated with the project. Each applicant must submit five impact indicators to support the applicant's project. Two of the five are standard and required across all ANA programs. For each impact indicator submitted the applicant must discuss the relevance of the impact indicator to the project, the method used to track the indicator, and the method used to determine project success. Impact indicators will be reported to ANA in the grantee's quarterly report. The applicant must indicate a target number to be achieved for the required standard impact indicators. In addition to the two standard required impact indicators, an applicant must also submit three additional impact indicators. These three impact indicators may be selected from the suggested list given below, or they may be developed for the specific proposed project, or the applicant may submit a combination of both the ANA suggested indicators and applicant project-specific indicators. The two standard required impact indicators are; (a) Number of partnerships formed; and (b) Amount of dollars leveraged beyond the required NFS match. The applicant must also choose three indicators from the list below or submit three other project specific indicators: (1) Number of infrastructures and administrative systems, including policies and procedures developed and implemented; (2) Number of people to successfully complete a workshop/training; (3) Number of children, youth, families or elders assisted or participating; (4) Number of volunteer hours; (5) Number of faith-based and community-based partnerships; (6) Number of jobs created.

The applicant should discuss the projects value and long-tem impact to the participants and the community and explain how the information relates to the proposed project goals, objectives and outcomes. The applicant should discuss how the project will be complete, self-sustaining, or supported by other than ANA funds at the end of the project period. Applicants should discuss and present objectives and goals to be achieved and evaluated at the end of each budget period or quarter (if applicable). Project outcomes should support the identified need and should be measurable and quantifiable.

ANA suggests applicants describe a logic model that presents the conceptual framework for the proposed project and the linkages among the project elements. While there are many versions of the logic model, they generally summarize the logical connections among the needs that are the focus of the project, project goals and objectives, the target population, project resources, the proposed activities/processes/outcomes directed toward the target population, the expected short- and long-term outcomes the initiative is designed to achieve, and the evaluation plan for measuring the extent to which proposed processes and outcomes actually occur.

Organizational Profiles—15 Points

Organizational Capacity: In this criterion, the application provides information on the management structure of the applicant and the organizational relationships with its cooperating partners. Applicants and their partner organizations (if any) should demonstrate experience and background in providing family support and healthy marriage activities. Include an organizational chart that indicates where the proposed project will fit in the existing structure. Demonstrate experience in the program area. Describe the administrative structure, and the applicant's ability to administer and implement a project of the proposed scope and its capacity to fulfill the implementation plan. Applicants are required to affirm that they will credit the Administration for Native Americans, and reference the ANA funded project on any audio, video, and/or printed materials developed in whole or in part with ANA funds.

Applicants must list all current sources of Federal funding, the agency, purpose, amount, and provide the most recent certified signed audit letter for the organization to be included in Part One of the application. If the applicant has audit exceptions, these issues must be discussed in this criterion.

Applicants must provide “staffing and position data” to include a proposed staffing pattern for the project where the applicant highlights the new project staff. Positions discussed in this section must match the positions identified in the Objective Work Plan and in the proposed budget. Applicant must provide a paragraph of the duties and skills required for the proposed staff and a paragraph on qualifications and experience of current staff. Full position descriptions are required to be submitted and included in the Appendix. Applicant must explain how the current and future staff will manage the proposed project. Brief biographies of key positions or individuals must be included. Note: Applicants are strongly encouraged to give preference to qualified Native Americans in hiring project staff and in contracting services under an approved ANA grant.

If applicable, applicant must identify consortium membership. The consortium applicant must be the recipient of the funds. A consortium applicant must be an “eligible entity” as defined by this Program Announcement and the ANA regulations. Consortium applicants must include documentation (a resolution adopted pursuant to the organization's established procedures and signed by an authorized representative) from all consortium members supporting the ANA application. An application from a consortium must have goals and objectives that will create positive impacts and outcomes in the communities of its members. ANA will not fund activities by a consortium of tribes that duplicate activities for which member Tribes also receive funding from ANA. The consortium application must identify the role and responsibility of each participating consortia member and a copy of the consortia legal agreement or Memoranda of Agreement to support the proposed project.

If relevant to the project, applicants must provide a Business Plan or any Third-Party Agreements in the appendices. (Not counted in Appendix page limit).

Introduction Project Summary/Abstract—10 Points

Introduction and Project Summary/Application Format: Using the ANA Project Abstract form (OMB Control Number 0980-0204, Exp. 10/31/2006), the applicant must include: the name of the applicant, the project title, the Federal amount requested, the amount of matching funds to be provided, length of time required to accomplish the project, the goal of the project, a list of the project objectives (not activities), the estimated number of people to be served, and the expected outcomes of the project.

In addition to the Project Abstract form, the applicant will provide an introductory narrative that includes: an overview of the project, a description of the community to be served, the location of the identified community, a declarative statement identifying the need for the project, and a brief overview of the project objectives, strategy and community or organizational impact.

Application Format: Applicants are required to submit applications in a standard format, following the ANA requirements on application length, font, numbering, line spacing, etc. Please refer to Section IV Part 2, “Content and Form of Application Submission” for detailed formatting instructions.

2. Review and Selection Process

No grant award will be made under this announcement on the basis of an incomplete application.

Initial Screening: Each application submitted under an ANA program announcement will undergo a pre-review screening for: (a) timeliness-the application was received by 4:30 pm eastern time on the closing date; (b) the applicant has submitted a current dated and signed resolution from the governing body; (c) the federal request does not exceed the upper value of the dollar range specified; and, (d) if the applicant is not a Tribe or Alaska Native village government, there is proof a majority of the board of directors is representative of the community to be served. An application that does not meet one of the above elements will be determined to be incomplete and excluded from the competitive review process. Applicants, with incomplete applications, will be notified by mail within 30 business days from the closing date of this program announcement. ANA staff cannot respond to requests for information regarding funding decisions prior to the official applicant notification. After the Commissioner has made decisions on all applications, unsuccessful applicants will be notified in writing within 90 days. The notification will include the reviewer comments. Applicants are not ranked based on general financial need. Applicants, who are initially excluded from competition because of ineligibility, may appeal the agency's decision. Applicants may also appeal an ANA decision that an applicant's proposed activities are ineligible for funding consideration. The appeals process is stated in the final rule published in the Federal Register on August 19, 1996 (61 FR 42817 and 45 CFR part 1336, subpart C).

Competitive Review Process: Applications that pass the initial ANA screening process will be analyzed, evaluated and rated by a review panel on the basis of the Evaluation Criteria. The evaluation criteria were designed to analyze and assess the quality of a proposed community-based project, the likelihood of its success, and the ability of ANA to monitor and evaluate community impact and long-term results. The evaluation criteria and analysis are closely related and are wholly considered in judging the overall quality of an application. In addition, the evaluation criteria standardizes the review of each application and distributes the number of points more equitably. Applications will be evaluated in accordance with the program announcement criteria and ANA's program areas of interest. A determination will be made as to whether the project is an effective use of Federal funds.

Application Review Criteria: Applicants will be reviewed based on the following criteria and points: ANA's six criteria categories are Introduction and Project Summary/Application Format; Need for Assistance; Project Approach; Organizational Capacity; Project Impact/Evaluation; and Budget and Budget Narrative/Cost Effectiveness.

Application Consideration: The Commissioner's funding decision is based on an analysis of the application by the review panel, panel review scores and recommendations; an analysis by ANA staff; review of previous ANA grantee's past performance; comments from State and Federal agencies having contract and grant performance related information; and other interested parties. The Commissioner makes grant awards consistent with the purpose of the Native American Programs Act (NAPA), all relevant statutory and regulatory requirements, this program announcement, and the availability of appropriated funds. The Commissioner reserves the right to award more, or less, than the funds described or under such circumstances as may be deemed to be in the best interest of the Federal Government. Applicants may be required to reduce the scope of projects based on the amount of approved award.

Since ACF will be using non-Federal reviewers in the process, applicants have the option of omitting from the application copies (not the original) specific salary rates or amounts for individuals specified in the application budget and Social Security Numbers, if otherwise required for individuals. The copies may include summary salary information.

Approved but Unfunded Applications: Applications that are approved but unfunded may be held over for funding in the next funding cycle, pending the availability of funds, for a period not to exceed one year.

3. Anticipated Announcement and Award Dates

Approximately 120 days after the application due date, the successful applicants will be notified by mail through the issuance of a Financial Assistance Award document which will set forth the amount of funds granted, the terms and conditions of the grant, the effective date of the grant, the budget period for which initial support will be given, the non-Federal share to be provided and the total project period for which support is contemplated. The Financial Assistance Award will be signed by the Grants Officer and sent to the applicants Authorizing Official. Applications not funded in this competition will be notified in writing.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental); 45 CFR part 1336, subpart C; and, 42 U.S.C. 2991 et seq.—Native American Programs Act of 1974.

Direct Federal grants, subaward funds, or contracts under this Program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

3. Reporting Requirements

Program Progress Reports: Quarterly.

Financial Reports: Quarterly.

An original and one copy of each performance report and financial status report must be submitted to the Grants Officer. Failure to submit these reports when required will mean the grantee is non-compliant with the terms and conditions of the grant award and subject to administrative action or termination. Program Progress reports are submitted 30 days after each quarter (3-month intervals) of the budget period. The final Program Progress report, due 90 days after the project period end date, shall cover grantee performance during the entire project period. All grantees shall use the SF 269 (Long Form) to report the status of funds. Financial Status Reports are submitted 30 days after each quarter (3-month intervals) of the budget period. The final SF 269 report shall be due 90 days after the end of the project period. In addition, these demonstration projects will participate in monthly regional conference calls to discuss the implementation of the NAHMI project.

VII. Agency Contacts

Program Office Contact: ANA Applicant Help Desk, Aerospace Center, 8th Floor West, 370 L'Enfant Promenade SW., Washington, DC 20447, Phone: 877-922-9262; Email: ana@acf.hhs.gov.

Grants Management Office Contact: Tim Chappelle, Administration for Children and Families, Office of Grants Management, Division of Discretionary Grants Aerospace Center—8th Floor West, 370 L'Enfant Promenade SW., Washington, DC 20447, Phone: 202-401-2344; Email: tichappelle@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Training and Technical Assistance: All potential ANA applicants are eligible to receive free T&TA in this program area. Prospective applicants must check ANA's Web site for training and technical assistance dates and locations, or contact the ANA Help Desk at 1-877-922-9262.

Please reference Section IV.3 for details about acknowledgement of received applications.

Dated: May 24, 2005.
Kimberly Romine,
Deputy Commissioner, Administration for Native Americans.

[FR Doc. 05-10661 Filed 5-26-05; 8:45 am]

BILLING CODE 4184-01-P